DEPARTMENT OF AGRICULTURE

Forest Service

Warm Springs, North River, and Glenwood-Pedlar Ranger Districts, George Washington National Forest; Highland, Bath, and Augusta Counties, Virginia; Marlinton Ranger District, Monongahela National Forest; Pocahontas County, West Virginia, Atlantic Coast Pipeline and Supply Header Supplemental Environmental Impact Statement

AGENCY: Forest Service, USDA.

ACTION: Withdrawal of notice of intent to prepare a supplementary environmental impact statement.

SUMMARY: The USDA Forest Service Monongahela (MNF) and George Washington National Forests (GWNF) are withdrawing the Notice of Intent (NOI) to prepare a Supplemental Environmental Impact Statement (SEIS) for the Atlantic Coast Pipeline (ACP) and Supply Header project. The original NOI was published in the Federal Register on June 11, 2020.

FOR FURTHER INFORMATION CONTACT: For inquiries about this notice, please contact Nadine Siak for the GWNF at: SM.FS.GWJNF-PA@usda.gov or leave a voicemail at 1-888-603-0261, or Kelly Bridges for the MNF at: kelly.bridges@usda.gov or 304-635-4432.

SUPPLEMENTARY INFORMATION: Dominion Energy Transmission, Inc. on behalf of Atlantic Coast Pipeline LLC (Atlantic), has withdrawn the Application for Transportation and Utility Systems and Facilities on Federal Lands that was previously submitted for the ACP. Atlantic will no longer be moving forward with the ACP which crossed approximately 20.1 miles of lands in the MNF and GWNF. The original NOI for this project was published in the Federal Register on June 11, 2020 (85 FR 35634). Atlantic will coordinate with the Forest Service regarding restoration associated with the November 2017 Record of Decision for ACP. For more detailed information on the background and history of the ACP project, see the project website at: https://www.fs.usda.gov/detail/gwj/home/?cid=stelprd3824603.

Jacqueline Emanuel,
Acting Associate Deputy Chief, National Forest System.

[FR Doc. 2020-21865 Filed 10-1-20; 8:45 am]

BILLING CODE 3411-15-P